DEPARTMENT OF THE TREASURY

Office of Foreign Assets Control

Designation of One Entity Pursuant to Executive Order 13553

SUB-AGENCY: Office of Foreign Assets Control.

ACTION: Notice.

SUMMARY: The Treasury Department's Office of Foreign Assets Control (“OFAC”) is publishing the name of one entity newly-designated as an entity whose property and interests in property are blocked pursuant to Executive Order 13553 of September 28, 2010, “Blocking Property of Certain Persons With Respect to Serious Human Rights Abuses by the Government of Iran and Taking Certain Other Actions.”

DATES: The designation by the Acting Director of OFAC of the entity identified in this notice, pursuant to Executive Order 13553 is effective February 16, 2012.

FOR FURTHER INFORMATION CONTACT: Assistant Director, Sanctions Compliance and Evaluation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On September 28, 2010, the President issued Executive Order 13553, “Blocking Property of Certain Persons With Respect to Serious Human Rights Abuses by the Government of Iran and Taking Certain Other Actions” (the “Order”) pursuant to, inter alia, the International Emergency Economic Powers Act (50 U.S.C. 1701-06) (“IEEPA”) and the Comprehensive Iran Sanctions, Accountability, and Divestment Act of 2010 (Public Law 111-195). In the Order, the President took additional steps with respect to the national emergency declared in Executive Order 12957 of March 15, 1995.

Section 1 of the Order blocks, with certain exceptions, all property and interests in property that are in the United States, that come within the United States, or that are or come within the possession or control of any United States person, of persons listed in the Annex to the Order and of persons determined by the Secretary of the Treasury, in consultation with or at the recommendation of the Secretary of State, to meet any of the criteria set forth in the Order.

The Annex to the Order listed eight individuals whose property and interests in property are blocked pursuant to the Order.

On February 16, 2012, the Acting Director of OFAC, in consultation with or at the recommendation of the Secretary of State, designated, pursuant to one or more of the criteria set forth in subparagraphs (a)(ii)(A) through (a)(ii)(C) of Section 1 of the Order, one entity whose property and interests in property are blocked, pursuant to the Order.

The listing for this entity is as follows:

• IRANIAN MINISTRY OF INTELLIGENCE AND SECURITY (a.k.a. VEZARAT-E ETTELA'AT VA AMNIAT-E KESHVAR; a.k.a. “MOIS”; a.k.a. “VEVAK”), bounded roughly by Sanati Street on the west, 30th Street on the south, and Iraqi Street on the east, Tehran, Iran; Ministry of Intelligence, Second Negarestan Street, Pasdaran Avenue, Tehran, Iran [SDGT] [IRAN-HR] [SYRIA-HR]

Dated: February 16, 2012.
Barbara C. Hammerle,
Acting Director, Office of Foreign Assets Control.

[FR Doc. 2012-4214 Filed 2-22-12; 8:45 am]

BILLING CODE 4810-AL-P